DEPARTMENT OF TRANSPORTATION

Federal Aviation Administration

14 CFR Part 39

[Docket No. 2003-NM-76-AD; Amendment 39-13677; AD 2004-12-16]

RIN 2120-AA64

Airworthiness Directives; McDonnell Douglas Model MD-11 and -11F Airplanes

AGENCY: Federal Aviation Administration, DOT.

ACTION: Final rule.

SUMMARY: This amendment supersedes an existing airworthiness directive (AD), applicable to certain McDonnell Douglas Model MD-11 and -11F series airplanes, that currently requires repetitive inspections to verify operation of the remote control circuit breakers (RCCB) of the alternating current (AC) cabin bus switch, and replacement of any discrepant RCCB with a new RCCB. This amendment requires the existing actions per a later service bulletin revision. The actions specified by this AD are intended to prevent propagation of smoke and fumes in the cockpit and passenger cabin due to one or more inoperable RCCBs of the AC cabin bus switch during smoke and fume isolation procedures. This action is intended to address the identified unsafe condition.

DATES: Effective July 26, 2004.

The incorporation by reference of certain publications listed in the regulations is approved by the Director of the Federal Register as of July 26, 2004.

The incorporation by reference of Boeing Alert Service Bulletin MD11-24A181, dated June 27, 2000, as listed in the regulations, was approved previously by the Director of the Federal Register as August 23, 2000 (65 FR 48362, August 8, 2000).

ADDRESSES: The service information referenced in this AD may be obtained from Boeing Commercial Airplanes, Long Beach Division, 3855 Lakewood Boulevard, Long Beach, California 90846, Attention: Data and Service Management, Dept. C1-L5A (D800-0024). This information may be examined at the Federal Aviation Administration (FAA), Transport Airplane Directorate, Rules Docket, 1601 Lind Avenue, SW., Renton, Washington; or at the FAA, Los Angeles Aircraft Certification Office, 3960 Paramount Boulevard, Lakewood, California; or at the National Archives and Records Administration (NARA). For information on the availability of this material at NARA, call (202) 741-6030, or go to: http://www.archives.gov/federal_register/code_of_federal_regulations/ibr_locations.html.

FOR FURTHER INFORMATION CONTACT: Brett Portwood, Aerospace Engineer, Systems and Equipment Branch, ANM-130L, FAA, Los Angeles Aircraft Certification Office, 3960 Paramount Boulevard, Lakewood, California 90712-4137; telephone (562) 627-5350; fax (562) 627-5210.

SUPPLEMENTARY INFORMATION: A proposal to amend part 39 of the Federal Aviation Regulations (14 CFR part 39) by superseding AD 2000-15-14, amendment 39-11846 (65 FR 48362, August 23, 2000), which is applicable to certain McDonnell Douglas Model MD-11 and -11F airplanes, was published in the Federal Register on April 1, 2004 (69 FR 17082). The action proposed to require repetitive inspections to verify operation of the remote control circuit breakers (RCCB) of the alternating current (AC) cabin bus switch, and replacement of any discrepant RCCB with a new RCCB.

Comments

Interested persons have been afforded an opportunity to participate in the making of this amendment. No comments were submitted in response to the proposal or the FAA's determination of the cost to the public.

Conclusion

The FAA has determined that air safety and the public interest require the adoption of the rule as proposed.

Cost Impact

There are approximately 197 airplanes of the affected design in the worldwide fleet. The FAA estimates that 81 airplanes of U.S. registry will be affected by this AD.

The actions that are currently required by AD 2000-15-14 take approximately 1 work hour per airplane to accomplish, at an average labor rate of $65 per work hour. Based on these figures, the cost impact of the currently required actions on U.S. operators is estimated to be $5,265, or $65 per airplane, per inspection cycle.

The new actions that are required in this AD action will take approximately 1 or 2 work hours per airplane (depending on airplane configuration) to accomplish, at an average labor rate of $65 per work hour. Based on these figures, the cost impact of the inspection requirements of this AD on U.S. operators is estimated to be $65 or $130 per airplane (depending on airplane configuration), per inspection cycle.

The cost impact figures discussed above are based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions. Manufacturer warranty remedies may be available for labor costs associated with this AD. As a result, the costs attributable to the AD may be less than stated above.

Regulatory Impact

The regulations adopted herein will not have a substantial direct effect on the States, on the relationship between the national government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-11846 (65 FR 48362, August 23, 2000), and by adding a new airworthiness directive (AD), amendment 39-13677, to read as follows:

2004-12-16 McDonnell Douglas: Amendment 39-13677. Docket 2003-NM-76-AD. Supersedes AD 2000-15-14, Amendment 39-11846.

Applicability: Model MD-11 and -11F airplanes, as listed in Boeing Alert Service Bulletin MD11-24A181, Revision 1, dated July 11, 2003; certificated in any category.

Compliance: Required as indicated, unless accomplished previously.

To prevent propagation of smoke and fumes in the cockpit and passenger cabin due to one or more inoperable remote control circuit breakers (RCCB) of the alternating current (AC) cabin bus switch during smoke and fume isolation procedures, accomplish the following:

Requirements of AD 2000-15-14, Amendment 39-11846

Inspection

(a) Within 45 days after August 23, 2000 (the effective date of AD 2000-15-14), perform an inspection to verify operation of the RCCBs of the AC cabin bus switch in accordance with Boeing Alert Service Bulletin MD11-24A181, dated June 27, 2000.

Condition 1 (Proper Operation): Repetitive Inspections

(1) If all RCCBs are operating properly, repeat the inspection thereafter at intervals not to exceed 700 flight hours.

Condition 2 (Improper Operation): Replacement and Repetitive Inspections

(2) If any RCCB is not operating properly, prior to further flight, replace the failed RCCB with a new RCCB in accordance with the service bulletin. Repeat the inspection thereafter at intervals not to exceed 700 flight hours.

New Actions Required by This AD

Inspection

(b) Within 45 days after the effective date of this AD, perform an inspection to verify operation of the RCCBs of the AC cabin bus switch in accordance with the Accomplishment Instructions of Boeing Alert Service Bulletin MD11-24A181, Revision 1, dated July 11, 2003. Accomplishment of this inspection ends the repetitive inspection requirements of paragraphs (a)(1) and (a)(2) of this AD.

Condition 1 (No Circuit Breaker Failure): Repetitive Inspections

(1) If all RCCBs are operating properly, repeat the inspection thereafter at intervals not to exceed 700 flight hours.

Condition 2 (Circuit Breaker Failure): Replacement and Repetitive Inspections

(2) If any RCCB is not operating properly, prior to further flight, replace the failed RCCB with a new RCCB in accordance with the service bulletin. Repeat the inspection thereafter at intervals not to exceed 700 flight hours.

Difference Between AD and Referenced Service Bulletin

(c) Although the service bulletin referenced in this AD specifies to submit certain information to the airplane and circuit breaker manufacturers, this AD does not include such a requirement.

Alternative Methods of Compliance

(d)(1) In accordance with 14 CFR 39.19, the Manager, Los Angeles Aircraft Certification Office, FAA, is authorized to approve alternative methods of compliance (AMOCs) for this AD.

(2) Alternative methods of compliance, approved previously per AD 2000-15-14, amendment 39-11846, are approved as alternative methods of compliance with this AD.

Incorporation by Reference

(e) The actions shall be done in accordance with Boeing Alert Service Bulletin MD11-24A181, dated June 27, 2000; and Boeing Alert Service Bulletin MD11-24A181, Revision 1, dated July 11, 2003; as applicable.

(1) The incorporation by reference of Boeing Alert Service Bulletin MD11-24A181, Revision 1, dated July 11, 2003, is approved by the Director of the Federal Register in accordance with 5 U.S.C. 552(a) and 1 CFR part 51.

(2) The incorporation by reference of Boeing Alert Service Bulletin MD11-24A181, dated June 27, 2000, was approved previously by the Director of the Federal Register as of August 23, 2000 (65 FR 48362, August 8, 2000).

(3) Copies may be obtained from Boeing Commercial Airplanes, Long Beach Division, 3855 Lakewood Boulevard, Long Beach, California 90846, Attention: Data and Service Management, Dept. C1-L5A (D800-0024). Copies may be inspected at the FAA, Transport Airplane Directorate, 1601 Lind Avenue, SW., Renton, Washington; or at the FAA, Los Angeles Aircraft Certification Office, 3960 Paramount Boulevard, Lakewood, California; or at the National Archives and Records Administration (NARA). For information on the availability of this material at NARA, call (202) 741-6030, or go to: http://www.archives.gov/federal_register/code_of_federal_regulations/ibr_locations.html.

Effective Date

(f) This amendment becomes effective on July 26, 2004.

Issued in Renton, Washington, on June 7, 2004.
Kalene C. Yanamura,
Acting Manager, Transport Airplane Directorate, Aircraft Certification Service.

[FR Doc. 04-13565 Filed 6-18-04; 8:45 am]

BILLING CODE 4910-13-P